SMALL BUSINESS ADMINISTRATION

[Disaster Declaration #12820 and #12821]

Pennsylvania Disaster Number PA-00042

AGENCY: U.S. Small Business Administration.

ACTION: Amendment 1.

SUMMARY: This is an amendment of the Presidential declaration of a major disaster for the State of Pennsylvania (FEMA-4025-DR), dated 09/12/2011 .

Incident: Hurricane Irene.

Incident Period: 08/26/2011 through 08/30/2011.

DATES: Effective Date: 11/04/2011.

Physical Loan Application Deadline Date: 12/14/2011.

Eidl Loan Application Deadline Date: 06/12/2012.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: The notice of the President's major disaster declaration for the State of Pennsylvania, dated 09/12/2011 is hereby amended to extend the deadline for filing applications for physical damages as a result of this disaster to 12/14/2011.

All other information in the original declaration remains unchanged.

(Catalog of Federal Domestic Assistance Numbers 59002 and 59008)

James E. Rivera Associate,
Administrator for Disaster Assistance.

[FR Doc. 2011-29215 Filed 11-10-11; 8:45 am]

BILLING CODE 8025-01-P